Title 3—

The President

Proclamation 8743 of November 1, 2011

Military Family Month, 2011

By the President of the United States of America

A Proclamation

With every step we take on American soil, we tread on ground made safer for us through the invaluable sacrifices of our service members and their families. During Military Family Month, we celebrate the exceptional service, strength, and sacrifice of our military families, whose commitment to our Nation goes above and beyond the call of duty.

Just as our troops embody the courage and character that make America’s military the finest in the world, their family members embody the resilience and generosity that make our communities strong. They serve with heroism in their homes and neighborhoods while they are without the comfort of having loved ones nearby. Day after day, week after week, spouses resolutely accomplish the work of two parents, sons and daughters diligently keep up with homework and activities, and parents and grandparents patiently wait for news of their child and grandchild’s safe return. To these families, and to those whose service members never come home, we bear a debt that can never be fully repaid.

As Americans, we are at our best when we honor and uphold our obligations to one another and to those who have given so much to our country. Earlier this year, First Lady Michelle Obama and Dr. Jill Biden challenged all Americans to serve those who sacrifice in our name with the Joining Forces initiative. Joining Forces strives to enlist support for our men and women in uniform and our veterans not only when they are away at war, but at every stage of their lives. My Administration is dedicated to doing more for our military families by enhancing learning opportunities for our military children, championing our military spouses as they advance their careers and education, and providing better mental health counseling to heal the wounds left in war’s wake.

Our service members swore an oath to protect and defend, and with each step we take on this land we cherish, we remember our steadfast promise to protect the well-being of the family members they hold dear. Every act of kindness we can offer helps cultivate a culture of support for our military families, and I encourage each American to make a difference in the lives of these patriots.

NOW, THEREFORE, I, BARACK OBAMA, President of the United States of America, by virtue of the authority vested in me by the Constitution and the laws of the United States, do hereby proclaim November 2011 as Military Family Month. I call on all Americans to honor military families through private actions and public service for the tremendous contributions they make in the support of our service members and our Nation.

IN WITNESS WHEREOF, I have hereunto set my hand this first day of November, in the year of our Lord two thousand eleven, and of the Independence of the United States of America the two hundred and thirty-sixth.

[FR Doc. 2011-28838

Filed 11-3-11; 11:15 am]

Billing code 3295-F2-P